DEPARTMENT OF COMMERCE

National Oceanic and Atmospheric Administration

RIN 0648-XG912

South Atlantic Fishery Management Council; Public Meetings

AGENCY: National Marine Fisheries Service (NMFS), National Oceanic and Atmospheric Administration (NOAA), Commerce.

ACTION: Notice of a public meeting.

SUMMARY: The South Atlantic Fishery Management Council (Council) will hold a meeting of its Mackerel and Cobia Advisory Panel (AP) and Cobia Sub-Panel.

DATES: The meeting will be held via webinar on April 18, 2019, from 9 a.m. until 12 p.m.

ADDRESSES:

Council address: South Atlantic Fishery Management Council, 4055 Faber Place Drive, Suite 201, N. Charleston, SC 29405.

Meeting Address: The meeting will be held via webinar. The webinar is open to members of the public. Registration is required. Webinar registration, an online public comment form, and briefing book materials will be available two weeks prior to the meeting at: http://safmc.net/safmc-meetings/current-advisory-panel-meetings/. Public comments must be received by 12 p.m. on April 18, 2019.

FOR FURTHER INFORMATION CONTACT: Kim Iverson, Public Information Officer, SAFMC; phone: (843) 571-4366 or toll free: (866) SAFMC-10; fax: (843) 769-4520; email: kim.iverson@safmc.net.

SUPPLEMENTARY INFORMATION: The Mackerel Cobia AP and Cobia Sub-Panel will meet jointly via webinar. Agenda items for the AP and Cobia Sub-Panel include: proposed modifications to the commercial trip limit for king mackerel in the Atlantic southern zone during season two (October to the end of February); discussion of recent closures in the commercial Atlantic Spanish mackerel fishery; and modifications to the minimum size limit for Florida east coast zone cobia. The AP and Cobia sub-panel members will discuss these issues and provide recommendations for Council consideration as appropriate.

Special Accommodations

The meeting is physically accessible to people with disabilities. Requests for auxiliary aids should be directed to the Council office (see ADDRESSES) 5 days prior to the meeting.

Note: The times and sequence specified in this agenda are subject to change.

Authority: 16 U.S.C. 1801 et seq.

Dated: March 28, 2019.
Tracey L. Thompson,
Acting Deputy Director, Office of Sustainable Fisheries, National Marine Fisheries Service.

[FR Doc. 2019-06340 Filed 4-1-19; 8:45 am]

BILLING CODE 3510-22-P